DEPARTMENT OF JUSTICE

Drug Enforcement Administration

Donald W. Kreutzer, M.D.; Revocation of Registration

On October 7, 2003, the Deputy Assistant Administrator, Office of Diversion Control, Drug Enforcement Administration (DEA), issued an Order to Show Cause to Donald W. Kreutzer, M.D. (Dr. Kreutzer) of Clarksville, Missouri, notifying him of an opportunity to show cause as to why DEA should not revoke his DEA Certificate of Registration AK5325914 under 21 U.S.C. 824(a) and deny any pending applications for renewal or modification of that registration. As a basis for revocation, the Order to Show Cause alleged that Dr. Kreutzer is not currently authorized to practice medicine or handle controlled substances in Missouri, his state of registration and practice. The order also notified Dr. Kreutzer that should no request for a hearing be filed within 30 days, his hearing right would be deemed waived.

The Order to Show Cause was sent by certified mail to Dr. Kreutzer at his address of record at 14713 Pike County Road 245, Clarksville, Missouri 63336. According to the return receipt, the Order was accepted by Dr. Kreutzer on or around October 16, 2003. DEA has not received a request for hearing or any other reply from Dr. Kreutzer or anyone purporting to represent him in this matter.

Therefore, the Acting Deputy Administrator, finding that (1) 30 days have passed since the receipt of the Order to Show Cause, and (2) no request for a hearing having been received, concludes that Dr. Kreutzer is deemed to have waived his hearing right. See Samuel S. Jackson, D.D.S. 67 FR 65145 (2002); David W. Linder, 67 FR 12579 (2002). After considering material from the investigative file, the Acting Deputy Administrator now enters her final order without a hearing pursuant to 21 CFR 1301.43(d) and (e) and 1301.46.

The Acting Deputy Administrator finds that Dr. Kreutzer possesses DEA Certificate of Registration AK5325914, which expires on December 31, 2004. The Acting Deputy Administrator further finds that on or about April 16, 2003, in State of Illinois v. Donald Kreutzer, Case No. 99-CF-57 in the Circuit Court of Gallatin County, State of Illinois, Dr. Kreutzer was convicted of fourteen felony counts of Delivery of a Controlled Substance and one felony count of Public Aid Vendor Fraud.

On July 18, 2003, the Missouri State Board of Registration for the Healing Arts (the Board) conducted a hearing pursuant to a Complaint filed against Dr. Kreutzer, alleging inter alia, that he had been convicted of the above felony counts and that his Missouri medical license was subject to automatic revocation. Dr. Kreutzer appeared at the hearing and on August 8, 2003, the Board issued its Findings of Fact, Conclusions of Law and Disciplinary Order sustaining the accusations and revoking Dr. Kreutzer's license to practice medicine in the State of Missouri for a period of five years.

The investigative file contains no evidence that the Board's Order has been stayed or that Dr. Kreutzer's medical license has been reinstated. Therefore, the Acting Deputy Administrator finds that Dr. Kreutzer is not currently authorized to practice medicine in the State of Missouri. As a result, it is reasonable to infer he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Muttaiya Darmarajeh, M.D., 66 FR 52936 (2001); Dominick A. Ricci, M.D., 58 FR 51104 (1993); Bobby Watts, M.D., 53 FR 11919 (1988).

Here, it is clear that Dr. Kreutzer's medical license has been revoked and he is not licensed to handle controlled substances in Missouri, where he is registered with DEA. Therefore, he is not entitled to a DEA registration in that state.

Accordingly, the Acting Deputy Administrator of the Drug Enforcement Administration, pursuant to the authority vested in her by 21 U.S.C. 823 and 824 and 28 CFR 0.100(b) and 0.104, hereby orders that DEA Certificate of Registration AK53225914, issued to Donald W. Kreutzer, M.D., be, and it hereby is, revoked. The Acting Deputy Administrator further orders that any pending applications for renewal of such registration be, and they hereby are, denied. This order is effective March 15, 2004.

Dated: January 20, 2004.
Michele M. Leonhart,
Acting Deputy Administrator.

[FR Doc. 04-3126 Filed 2-11-04; 8:45 am]

BILLING CODE 4410-09-M